DEPARTMENT OF ENERGY

Federal Energy Regulatory Commission

[Docket No. RP00-336-002, RP01-484-000, RP01-486-000, and RP00-139-000]

El Paso Natural Gas Co.; Aera Energy, LLC, et al., Complainants v. El Paso Natural Gas Co., Respondent; Texas, New Mexico and Arizona Shippers, Complainants v. El Paso Natural Gas Co., Respondent; KN Marketing, L.P., Complainant v. El Paso Natural Gas Co., Respondent; Public Conference Agenda

April 10, 2002.

As announced in the prior notices issued on March 21, 2002 and April 8, 2002, there will be a public conference on April 16, 2002 to receive comments on Staff's proposal for resolving capacity allocation issues on the El Paso Natural Gas Company system. This conference will be held at 10:00 a.m. in the Commission Meeting Room of the Federal Energy Regulatory Commission, 888 First St., NE, Washington, DC. All interested persons are invited to attend.

The Agenda for the conference is attached to this Notice. Written comments may be submitted on April 16, 2002. A time for filing reply comments will be discussed at the conference.

The conference will be transcribed. Those interested in obtaining transcripts should contact Ace Federal Reporters at 202-347-3700. The Capitol Connection will broadcast the conference live via the Internet and by phone. To find out more about The Capitol Connection's Internet and phone bridge, contact David Reininger or Julia Morelli at 703-993-3100 or go to www.capitolconnection.gmu.edu. Anyone interested in purchasing videotapes of the workshops should call VISCOM at 703-715-7999.

Any questions concerning the procedures or format of the conference, may be addressed to either Robert Petrocelli at (202)208-2085 or Ingrid Olson at (202)208-2015.

Magalie R. Salas,
Secretary.

El Paso Natural Gas Company, Docket No. RP00-336-000, et al. April 16, 2002, 10 a.m.

Public Conference

I. Opening Remarks and Introduction—10 a.m.

Robert J. Petrocelli, Office of Markets, Tariffs, and Rates, FERC

Patricia Shelton, President, El Paso Natural Gas Company

William Healy, Vice President, Commercial Operations, El Paso Corporation's Western Pipeline Group.

Daniel Collins, Vice President and Deputy General Counsel, El Paso Corporation.

Norman Walker, Director of Nominations and Scheduling Department, El Paso Natural Gas Company

II. Panel of State Commissions—10:15 a.m.

William A. Mundell, Chairman, Arizona Corporation Commission

Jonathan A. Bromson, Staff Counsel, California Public Utilities Commission

III. Panel of Full Requirements Shippers 10:40 a.m.

James F. Moriarty, Counsel, Spokesperson for Full Requirements Shippers

John P. Gregg, Counsel, El Paso Municipal Customer Group

Melvin Christopher, Vice President, Operations & Engineering, Public Service Company of New Mexico

Michael Langston, Vice President, Gas Supply, Southern Union Gas Company

John A. Cogan, The Johnco Group, LLC, Arizona Gas Division of Citizens Communications Company

Edward C. McMurtrie, Director, Federal Regulatory Affairs, Southwest Gas Corporation

David G. Areghini, Associate General Manager, Salt River Project

Mark W. Schwirtz, Chief Operating Officer, Arizona Electric Power Cooperative

James H. McGrew, Counsel, El Paso Electric Company

Stephen M. Wheeler, Senior Vice President, Arizona Public Service Co. for Arizona Public Service and Pinnacle West

Michael D. McElrath, Energy Manager, Phelps Dodge Corporation, for Phelps Dodge Corporation and ASARCO, INC.

IV. Panel of Contract Demand Shippers 11:40 a.m.

Katherine B. Edwards, Counsel, Indicated Shippers

Paul B. Keeler, Managing Attorney—Marketing, Burlington Resources Oil & Gas LP, Vice President, Law, Burlington Resources Trading Inc.

Penny Barry, San Juan and Rockies Trading, BP America Inc.

Douglas F. John, Counsel, MGI Supply

Cathy Bulf, Manager of Transportation, ONEOK Energy Marketing and Trading

James Harrigan, Vice President Gas Acquisitions, Southern California Gas Company

Rodger Schwecke, Manager Pipeline Products, Southern California Gas Company.

John Ellis, Counsel, Sempra Energy

(To be announced), Southern California Generation Coalition

Lunch Break—12:40 p.m.

V. Open Discussion of Issues—1:45-2:45 p.m.

Dynegy Marketing and Trade, Panda Gila River LP, Pacific Gas & Electric Company, and Southern California Edison Company have indicated an interest in making comments during this discussion. Others will also have an opportunity to participate in the discussion.

[FR Doc. 02-9182 Filed 4-15-02; 8:45 am]

BILLING CODE 6717-01-P